DEPARTMENT OF JUSTICE

[OMB 1140-0123]

Agency Information Collection Activities; Proposed eCollection eComments Requested; Revision of a Previously Approved Collection; Personal Identity Verification Form—ATF Form 8620.40

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until July 7, 2025.

FOR FURTHER INFORMATION CONTACT: If you have additional comments especially on the estimated public burden or associated response time, suggestions, or need a copy of the proposed information collection instrument with instructions or additional information, contact: Nikki Wiltshire, Personnel Security Division, either by mail at U.S. Department of Justice, PSD—Room (1E-300), 99 New York Ave. NE, Washington, DC 20226, by email at Niki.wiltshire@atf.gov, or telephone at 202-648-9260.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Candidates tentatively selected for positions must meet basic qualification requirements before accessing ATF information, IT systems, and facilities. ATF conducts personnel security and suitability background investigations for this purpose, in accordance with IRTPA, HSPD-12, Trusted Workforce 2.0, and other requirements. A first step in this process is verifying the person's identity, which this form documents. Information Collection (IC) OMB 1140-0123 is being revised to include an update in the hourly burden calculations for the time taken to verify forms of identification from 5 minutes to 15 minutes per verification and the increase in time from 167 hours to 500 hours.

Overview of This Information Collection

1. Type of Information Collection: Revision of a previously approved collection.

2. The Title of the Form/Collection: Personal Identity Verification Form.

3. The agency form number, if any, and the applicable component of the Department sponsoring the collection: Form number: ATF Form 8620.40. Component: Bureau of Alcohol, Tobacco, Firearms and Explosives, U.S. Department of Justice.

4. Affected public who will be asked or required to respond, as well as the obligation to respond: Affected Public: Federal Government. The obligation to respond is mandatory per the Intelligence Reform and Terrorism Prevention Act of 2004, 5 CFR part 736.

5. An estimate of the total number of respondents and the amount of time estimated for an average respondent to respond: An estimated 2,000 respondents will provide information to complete this form once, and it will take each respondent approximately 15 minutes to complete their responses.

6. An estimate of the total annual burden (in hours) associated with the collection: The estimated annual public burden associated with this collection is 500 total hours, which is equal to 2,000 (total respondents) * 1 (# of response per respondent) * 0.25 (15 minutes).

7. An estimate of the total annual cost burden associated with the collection, if applicable: $0.

Total Burden Hours
Activity | Number of respondents | Frequency | Total annual responses | Time per response (hours) | Total annual burden (hours)
Personal Identity Verification | 2,000 | 1 time | 2,000 | 0.25 | 500

If additional information is required contact: Darwin Arceo, Department Clearance Officer, United States Department of Justice, Justice Management Division, Policy and Planning Staff, Two Constitution Square, 145 N Street NE, 4W-218, Washington, DC.

Dated: April 29, 2025.
Darwin Arceo,
Department Clearance Officer for PRA, U.S. Department of Justice.

[FR Doc. 2025-07714 Filed 5-2-25; 8:45 am]

BILLING CODE 4410-FY-P